SECURITIES AND EXCHANGE COMMISSION

[File No. 500-1]

Genova Biotherapeutics Inc.; Order of Suspension of Trading

September 23, 2009.

It appears to the Securities and Exchange Commission that there is a lack of current and accurate information concerning the securities of Genova Biotherapeutics Inc. (“Genova”).

Genova is incorporated under the laws of Nevada and has its primary headquarters in New York, New York. Questions have arisen regarding stock promotional activity for Genova and the adequacy and accuracy of press releases, financial statements, and statements on the company's Web site concerning the company's current financial condition, business and operations, and stock promoting activity.

The Commission is of the opinion that the public interest and the protection of investors require a suspension of trading in Genova's securities.

Therefore, it is ordered, pursuant to Section 12(k) of the Securities Exchange Act of 1934, that trading in the securities of the above-listed company is suspended for the period from 9:30 a.m. EST, on September 23, 2009 through 11:59 p.m. EST, on October 6, 2009.

By the Commission.
Florence E. Harmon,
Deputy Secretary.

[FR Doc. E9-23297 Filed 9-23-09; 4:15 pm]

BILLING CODE 8010-01-P